DEPARTMENT OF JUSTICE

Bureau of Prisons

Notice of Intent To Prepare a Draft Environmental Impact Statement for the Construction of Private Correctional Facilities in Arizona and California

AGENCY: Bureau of Prisons, Department of Justice.

ACTION: Notice of intent to prepare a Draft Environmental Impact Statement (DEIS).

SUMMARY:

Proposed Action

The Bureau of Prisons (BOP) will prepare a DEIS for a Contractor-Owned and Contractor-Operated private correctional facility(ies) to house sentenced criminal aliens. The BOP is facing unprecedented growth in its inmate population. As a result, low security federal correctional institutions will be especially impacted. The projected growth in the population of sentenced criminal aliens will further exacerbate these low security population demands.

The BOP will be soliciting for a Contractor-Owned and Contractor-Operated correctional facility(ies) to house approximately 4,500 low security, male, non U.S. citizen criminal aliens. Proposed facility(ies) may include construction of a new facility, expansion of an existing facility, or use of an existing facility. Twenty sites throughout Arizona and California have been identified by contractors and offered to the BOP for consideration. The proposed sites have been submitted by the following contractors:

Cornell Corrections: (1) 80 acres of vacant, undeveloped land located west of Rancho Road and north of Millux Road near the City of Arvin, CA; (2) 77 acres of vacant, undeveloped land located along the south side of State Highway (SH) 186 and approximately 1,300 feet west of Rex Allen Jr. Drive near the City of Willcox, AZ; (3) 80 acres of vacant, undeveloped land located west of Sunset Boulevard and the Central Main Channel approximately 600 feet north of Cole Road near the city of Calexico, CA; (4) 79.09 acres of vacant, unimproved western Mojave Desert land located north of the BNSF railroad right-of-way near the city of Barstow, CA; (5) 88.24 acres of undeveloped land located in Snowflake, AZ.

Dominion Correctional Properties: (1) 196.2 acres of land of which 36.2 acres is proposed for the location of a sewage treatment facility, located SE 1/4 of Section 15, T 19 N, R 18 W, of the Gila and Salt River Meridian near the city of Kingman, AZ.

Alternative Programs, Inc.: (1) 80 acre parcel of land located west of Avenue D, between County 23rd Street and County 24th Street in San Luis, AZ.

Wackenhut Corrections Corporation: (1) 72 acres of agricultural land located in the southwest corner of Scofield Avenue and the undeveloped Poso Avenue alignment in Wasco, CA; (2) 64 acres of vacant land located west of Lenwood Road, between Jasper and Agate Roads near Barstow, CA; (3) 160 acres of undeveloped land located at the northwest corner of Arica and La Palma Roads in Eloy, AZ.

Correctional Services Corporation: (1) Four adjacent parcels of land, totaling approximately 97 acres each. The site is bordered by Anchor Avenue to the east, Parlier Avenue to the north, Monson Avenue to the west and East Manning Avenue to the south, near the city of Orange Cove, CA. (2) 160 acres of agricultural land bordered by Clark Road to the east and beyond by an Imperial Irrigation District (IID) irrigation canal and alfalfa crops.

The site is bordered by a vacant parcel with abandoned wooden structures to the north and beyond by the Imperial County detention facility. A dirt road borders the site to the west with an IID drainage canal and alfalfa crops located beyond. The site is bordered by a dirt road to the south and beyond by alfalfa crops, approximately three miles south of El Centro, CA; (3) 21 acres of agricultural land located at the northeastern edge of the town of Florence, AZ; (4) 235 acres of agricultural land bordered on the west by an asphalt road and agricultural land. The site is bordered on the north and east by dirt roads, irrigation ditches, and agricultural land. Located immediately south of the southeast corner of the site is a narrow strip of land along South Carter Lane, three miles northeast of the town of Eloy, AZ; (5) 100 acres of land located on the Safford Municipal Airport property approximately five miles northeast of Safford, AZ; (6) 115 acres of land bordered by U.S. 191 on the west, East Cardinal Drive on the north, South Lonesome Lane and residences on the east, and residences and undeveloped land on the south, approximately 4.5 miles south of Safford in Lebanon, AZ; (7) 136 acres of agricultural land bordered by E. Adams Avenue to the north, a dirt road to the east, E. Summer Avenue to the south and E. Hill Avenue to the west, approximately 3 miles west of Orange Cove, CA.

Corrections Corporation of America: (1) 20 acres of land that consists of 12 separate buildings located about 3,500 feet southeast of the Gila River and approximately 3/4 miles northeast of the Town of Florence between U.S. Route 89 and Bowling Road, Florence, AZ.

Imperial County Sheriff's Department: (1) 80 acre site located along the south side of McCabe Road and adjacent to the west side of Sperber Road in the agricultural area south of the city of El Centro, CA.

City of Shafter: (1) 15.97 acres of land located 676 feet east of Beech Street on the north side of Los Angeles Street in the southeast area of the city of Shafter, CA.

Each proposed site submitted to the BOP is in response to the Commerce Business Daily Notice issued June 13th. The notice required potential offerors to submit a Phase I Environmental Survey conducted in accordance with the American Society for Testing and Materials, Standard Practice for Environmental Site Assessment Process. Also included as a “non-scope consideration” under Chapter 12 of the Standard Practice, are a delineation or identification of on-site wetlands, and an analysis of potential impacts to threatened or endangered species, or species of special status. In further evaluation of these sites, several aspects will receive detailed examination including utilities, traffic patterns, noise, cultural resources, threatened and endangered species and land uses. The BOP intends to award a firm-fixed price contract with award-fee incentives; a potential term of ten years consisting of a three-year base and seven one-year option periods; a performance-based statement of work based generally on the American Correctional Association Standards; and a management emphasis on contractor quality control. After publication of this notice, the BOP will issue a Request for Proposals (RFPs). Proposals may be offered for any or all of the 20 sites.

Alternatives

Alternatives will include the no action alternative, and all proposals received in response to the RFPs. Each alternative will be identified and fully examined. The DEIS will not contain a preferred alternative(s).

Scoping Process

Pursuant to the National Environmental Policy Act of 1969, as amended, (NEPA), a Scoping process will be conducted. As part of this process, public meetings will be held in Arizona and California to identify issues of concern for analysis during the NEPA process. Information packets containing a description of each site will be available during the meetings. Copies of the Phase I Environmental Site Assessments will be made available upon written request. During the preparation of the DEIS, there will be numerous opportunities for public involvement. The meetings, locations, dates and times will be well publicized in the local newspaper of record in the affected communities adjacent to the potential sites. Meetings will be held to allow interested persons to voice their concerns on the scope and significant issues to be examined as part of the NEPA process.

The Scoping process is being held to provide for timely public comments and understanding of Federal plans and programs with possible environmental consequences as required by NEPA and the National Historic Preservation Act of 1966.

DEIS Preparation

Public notice will be given in the Federal Register and the local newspaper of record concerning the availability of the DEIS for public review and comment.

Address

Questions concerning the proposed action may be directed to: David J. Dorworth, Chief, Site Selection and Environmental Review Branch, Federal Bureau of Prisons, 320 First Street, NW., Washington, DC 20534, Attention: Debra J. Hood, Telephone (202) 305-1102, Telefacsimile (202) 616 6024, E-mail: siteselection@bop.gov

Dated: September 13, 2000.
David J. Dorworth,
Chief, Site Selection and Environmental Review Branch.

[FR Doc. 00-24051 Filed 9-18-00; 8:45 am]

BILLING CODE 4410-05-U